DEPARTMENT OF COMMERCE

National Oceanic and Atmospheric Administration

RIN 0648-XV029

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Skate Committee and Advisory Panel to consider actions affecting New England fisheries in the exclusive economic zone (EEZ). Recommendations from this group will be brought to the full Council for formal consideration and action, if appropriate.

DATES: This meeting will be held on Thursday, September 5, 2019 at 8:30 a.m.

ADDRESSES: The meeting will be held at the Hilton Providence, 21 Atwells Ave., Providence, RI 02903; telephone: (401) 831-3900.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

The Joint Committee and Advisory Panel will discuss the Plan Development Team analysis and draft Framework Adjustment 8 (FW 8) alternatives including updated status determinations for the Northeast Skate Complex, recommendations for the Skate Allowable Biological Catch (ABC), and associated possession limits. They will also select preferred alternatives for FW 8. The group plans to continue discussion of objectives for a limited access program in the skate bait and wing fisheries (Amendment 5). Update on ongoing limited access (Amendment 5) analyses. They will also discuss recommendations for the Council to consider for 2020 priorities for the Northeast Skate Complex FMP. The Council is scheduled to have an initial discussion of potential 2020 priorities at the September Council meeting. Additionally, the plan to receive an update on the Commercial Electronic Vessel Trip Reporting (eVTR) Omnibus Framework, which proposes to implement electronic VTRs for all vessels with commercial permits for species managed by the Mid-Atlantic and New England Fishery Management Councils. Other business will be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 14, 2019.
Tracey L. Thompson,
Acting Deputy Director, Office of Sustainable Fisheries, National Marine Fisheries Service.

[FR Doc. 2019-17750 Filed 8-16-19; 8:45 am]

BILLING CODE 3510-22-P